DEPARTMENT OF JUSTICE

Drug Enforcement Administration

[Docket No. DEA-470P]

Proposed Adjustments to the Aggregate Production Quotas for Schedule I and II Controlled Substances and Assessment of Annual Needs for the List I Chemicals Ephedrine, Pseudoephedrine, and Phenylpropanolamine for 2017

AGENCY: Drug Enforcement Administration, Department of Justice.

ACTION: Notice with request for comments.

SUMMARY: The Drug Enforcement Administration (DEA) proposes to adjust the 2017 aggregate production quotas for several controlled substances in schedules I and II of the Controlled Substances Act and assessment of annual needs for the list I chemicals ephedrine, pseudoephedrine, and phenylpropanolamine.

DATES: Interested persons may file written comments on this notice in accordance with 21 CFR 1303.13(c) and 1315.13(d). Electronic comments must be submitted, and written comments must be postmarked, on or before September 5, 2017. Commenters should be aware that the electronic Federal Docket Management System will not accept comments after 11:59 p.m. Eastern Time on the last day of the comment period.

Based on comments received in response to this notice, the Administrator may hold a public hearing on one or more issues raised. In the event the Administrator decides in his sole discretion to hold such a hearing, the Administrator will publish a notice of any such hearing in the Federal Register. After consideration of any comments or objections, or after a hearing, if one is held, the Administrator will publish in the Federal Register a final order establishing the 2017 adjusted aggregate production quotas for schedule I and II controlled substances, and an assessment of annual needs for the list I chemicals ephedrine, pseudoephedrine, and phenylpropanolamine.

ADDRESSES: To ensure proper handling of comments, please reference “Docket No. DEA-470P” on all correspondence, including any attachments. The Drug Enforcement Administration encourages that all comments be submitted electronically through the Federal eRulemaking Portal which provides the ability to type short comments directly into the comment field on the Web page or attach a file for lengthier comments. Please go to http://www.regulations.gov and follow the online instructions at that site for submitting comments. Upon completion of your submission you will receive a Comment Tracking Number for your comment. Please be aware that submitted comments are not instantaneously available for public view on Regulations.gov. If you have received a Comment Tracking Number, your comment has been successfully submitted and there is no need to resubmit the same comment. Paper comments that duplicate electronic submissions are not necessary and are discouraged. Should you wish to mail a paper comment in lieu of an electronic comment, it should be sent via regular or express mail to: Drug Enforcement Administration, Attention: DEA Federal Register Representative/DRW, 8701 Morrissette Drive, Springfield, Virginia 22152.

FOR FURTHER INFORMATION CONTACT: Michael J. Lewis, Diversion Control Division, Drug Enforcement Administration; Mailing Address: 8701 Morrissette Drive, Springfield, Virginia 22152, Telephone: (202) 598-6812.

SUPPLEMENTARY INFORMATION:

Posting of Public Comments

Please note that all comments received in response to this docket are considered part of the public record. They will, unless reasonable cause is given, be made available by the Drug Enforcement Administration (DEA) for public inspection online at http://www.regulations.gov. Such information includes personal identifying information (such as your name, address, etc.) voluntarily submitted by the commenter.

The Freedom of Information Act (FOIA) applies to all comments received. If you want to submit personal identifying information (such as your name, address, etc.) as part of your comment, but do not want it to be made publicly available, you must include the phrase “PERSONAL IDENTIFYING INFORMATION” in the first paragraph of your comment. You must also place all the personal identifying information you do not want made publicly available in the first paragraph of your comment and identify what information you want redacted.

If you want to submit confidential business information as part of your comment, but do not want it to be made publicly available, you must include the phrase “CONFIDENTIAL BUSINESS INFORMATION” in the first paragraph of your comment. You must also prominently identify confidential business information to be redacted within the comment.

Comments containing personal identifying information or confidential business information identified and located as directed above will generally be made available in redacted form. If a comment contains so much confidential business information or personal identifying information that it cannot be effectively redacted, all or part of that comment may not be made publicly available. Comments posted to http://www.regulations.gov may include any personal identifying information (such as name, address, and phone number) included in the text of your electronic submission that is not identified as directed above as confidential.

An electronic copy of this document is available at http://www.regulations.gov for easy reference.

Legal Authority and Background

Section 306 of the Controlled Substances Act (CSA) (21 U.S.C. 826) requires the Attorney General to establish aggregate production quotas for each basic class of controlled substance listed in schedules I and II and for the list I chemicals ephedrine, pseudoephedrine, and phenylpropanolamine. The Attorney General has delegated this function to the Administrator of the DEA pursuant to 28 CFR 0.100.

The DEA established the 2017 aggregate production quotas for substances in schedules I and II and the assessment of annual needs for the list I chemicals ephedrine, pseudoephedrine, and phenylpropanolamine on October 5, 2016 (81 FR 69079). That notice stipulated that, in accordance with 21 CFR 1303.13 and 1315.13, all aggregate production quotas and assessments of annual need are subject to adjustment.

Analysis for Proposed Adjusted 2017 Aggregate Production Quotas and Assessment of Annual Needs

The DEA proposes to adjust the established 2017 aggregate production quotas and assessment of annual needs for certain schedule I and II controlled substances, and the list I chemicals ephedrine, pseudoephedrine, and phenylpropanolamine, to be manufactured in the United States in 2017 to provide for the estimated medical, scientific, research, and industrial needs of the United States, for lawful export requirements, and for the establishment and maintenance of reserve stocks. These quotas do not include imports of controlled substances for use in industrial processes.

In determining the proposed adjustment, the Acting Administrator has taken into account the criteria in accordance with 21 CFR 1303.13 (adjustment of aggregate production quotas for controlled substances) and 21 CFR 1315.13 (adjustment of the assessment of annual needs for ephedrine, pseudoephedrine, and phenylpropanolamine). The DEA determined whether to propose an adjustment of the aggregate production quotas and assessment of annual needs for 2017 by considering: (1) Changes in the demand for that class or chemical, changes in the national rate of net disposal of the class or chemical, and changes in the rate of net disposal of the class or chemical by registrants holding individual manufacturing quotas for the class; (2) whether any increased demand for that class or chemical, the national and/or individual rates of net disposal of that class or chemical are temporary, short term, or long term; (3) whether any increased demand for that class or chemical can be met through existing inventories, increased individual manufacturing quotas, or increased importation, without increasing the aggregate production quota; (4) whether any decreased demand for that class or chemical will result in excessive inventory accumulation by all persons registered to handle that class or chemical; and (5) other factors affecting medical, scientific, research, and industrial needs in the United States and lawful export requirements, as the Acting Administrator finds relevant. These quotas do not include imports of controlled substances for use in industrial processes.

The Acting Administrator also considered updated information obtained from 2016 year-end inventories, 2016 disposition data submitted by quota applicants, estimates of the medical needs of the United States, product development, and other information made available to the DEA after the initial aggregate production quotas and assessment of annual needs had been established. Other factors the Acting Administrator considered in calculating the aggregate production quotas, but not the assessment of annual needs, include product development requirements of both bulk and finished dosage form manufacturers, and other pertinent information. In determining the proposed adjusted 2017 assessment of annual needs, the DEA used the calculation methodology previously described in the 2010 and 2011 established assessment of annual needs (74 FR 60294, Nov. 20, 2009, and 75 FR 79407, Dec. 20, 2010, respectively).

The Acting Administrator, therefore, proposes that the year 2017 aggregate production quotas for the nine temporarily scheduled substances be established, and to adjust the 2017 aggregate production quotas for certain schedule I and II controlled substances and assessment of annual needs for the list I chemicals ephedrine, pseudoephedrine, and phenylpropanolamine, expressed in grams of anhydrous acid or base, as follows:

Basic class | Established 2017 quotas (g) | Proposed Revised 2017 quotas (g)
Temporarily Scheduled Substances
4-Fluoroisobutyryl fentanyl | N/A | 30.
5F-ADB; 5F-MDMB-PINACA (methyl 2-(1-(5-fluoropentyl)-1H-indazole-3-carboxamido)-3,3-dimethylbutanoate) | N/A | 30.
5F-AMB (methyl 2-(1-(5-fluoropentyl)-1H-indazole-3-carboxamido)-3-methylbutanoate) | N/A | 30.
5F-APINACA; 5F-AKB48 (N-(adamantan-1-yl)-1-(5-fluoropentyl)-1H-indazole-3-carboxamide) | N/A | 30.
ADB-FUBINACA (N-(1-amino-3,3-dimethyl-1-oxobutan-2-yl)-1-(4-fluorobenzyl)-1H-indazole-3-carboxamide) | N/A | 30.
MDMB-CHMICA; MMB-CHMINACA (methyl 2-(1-(cyclohexylmethyl)-1H-indole-3-carboxamido)-3,3-dimethylbutanoate) | N/A | 30.
MDMB-FUBINACA (methyl 2-(1-(4-fluorobenzyl)-1H-indazole-3-carboxamido)-3,3-dimethylbutanoate) | N/A | 30.
Furanyl fentanyl | N/A | 30.
U-47700 | N/A | 30.
Schedule I
1-(1-Phenylcyclohexyl)pyrrolidine | 10 | no change.
1-(5-Fluoropentyl)-3-(1-naphthoyl)indole (AM2201) | 30 | no change.
1-(5-Fluoropentyl)-3-(2-iodobenzoyl)indole (AM694) | 30 | no change.
1-[1-(2-Thienyl)cyclohexyl]piperidine | 15 | no change.
1-Benzylpiperazine | 25 | no change.
1-Methyl-4-phenyl-4-propionoxypiperidine | 2 | no change.
2-(2,5-Dimethoxy-4-ethylphenyl)ethanamine (2C-E) | 30 | no change.
2-(2,5-Dimethoxy-4-methylphenyl)ethanamine (2C-D) | 30 | no change.
2-(2,5-Dimethoxy-4-nitro-phenyl)ethanamine (2C-N) | 30 | no change.
2-(2,5-Dimethoxy-4-n-propylphenyl)ethanamine (2C-P) | 30 | no change.
2-(2,5-Dimethoxyphenyl)ethanamine (2C-H) | 30 | no change.
2-(4-Bromo-2,5-dimethoxyphenyl)-N-(2-methoxybenzyl)ethanamine (25B-NBOMe; 2C-B-NBOMe; 25B; Cimbi-36) | 25 | no change.
2-(4-Chloro-2,5-dimethoxyphenyl)ethanamine (2C-C) | 30 | no change.
2-(4-Chloro-2,5-dimethoxyphenyl)-N-(2-methoxybenzyl)ethanamine (25C-NBOMe; 2C-C-NBOMe; 25C; Cimbi-82) | 25 | no change.
2-(4-Iodo-2,5-dimethoxyphenyl)ethanamine (2C-I) | 30 | no change.
2-(4-Iodo-2,5-dimethoxyphenyl)-N-(2-methoxybenzyl)ethanamine (25I-NBOMe; 2C-I-NBOMe; 25I; Cimbi-5) | 5 | 30.
2,5-Dimethoxy-4-ethylamphetamine (DOET) | 25 | no change.
2,5-Dimethoxy-4-n-propylthiophenethylamine | 25 | no change.
2,5-Dimethoxyamphetamine | 25 | no change.
2-[4-(Ethylthio)-2,5-dimethoxyphenyl]ethanamine (2C-T-2) | 30 | no change.
2-[4-(Isopropylthio)-2,5-dimethoxyphenyl]ethanamine (2C-T-4) | 30 | no change.
3,4,5-Trimethoxyamphetamine | 25 | no change.
3,4-Methylenedioxyamphetamine (MDA) | 55 | no change.
3,4-Methylenedioxymethamphetamine (MDMA) | 50 | no change.
3,4-Methylenedioxy-N-ethylamphetamine (MDEA) | 40 | no change.
3,4-Methylenedioxy-N-methylcathinone (methylone) | 40 | no change.
3,4-Methylenedioxypyrovalerone (MDPV) | 35 | no change.
3-FMC; 3-Fluoro-N-methylcathinone | 25 | no change.
3-Methylfentanyl | 2 | 30.
3-Methylthiofentanyl | 2 | 30.
4-Bromo-2,5-dimethoxyamphetamine (DOB) | 25 | no change.
4-Bromo-2,5-dimethoxyphenethylamine (2-CB) | 25 | no change.
4-FMC; Flephedrone | 25 | no change.
4-MEC; 4-Methyl-N-ethylcathinone | 25 | no change.
4-Methoxyamphetamine | 150 | no change.
4-Methyl-2,5-dimethoxyamphetamine (DOM) | 25 | no change.
4-Methylaminorex | 25 | no change.
4-Methyl-N-methylcathinone (mephedrone) | 45 | no change.
4-Methyl-α-pyrrolidinopropiophenone (4-MePPP) | 25 | no change.
5-(1,1-Dimethylheptyl)-2-[(1R,3S)-3-hydroxycyclohexyl]-phenol | 50 | no change.
5-(1,1-Dimethyloctyl)-2-[(1R,3S)-3-hydroxycyclohexyl]-phenol (cannabicyclohexanol or CP-47,497 C8-homolog) | 40 | no change.
5-Fluoro-PB-22; 5F-PB-22 | 20 | no change.
5-Fluoro-UR144, XLR11 ([1-(5-fluoro-pentyl)-1Hindol-3-yl](2,2,3,3-tetramethylcyclopropyl)methanone | 25 | no change.
5-Methoxy-3,4-methylenedioxyamphetamine | 25 | no change.
5-Methoxy-N,N-diisopropyltryptamine | 25 | no change.
5-Methoxy-N,N-dimethyltryptamine | 25 | no change.
AB-CHMINACA | 15 | 30.
AB-FUBINACA | 50 | no change.
AB-PINACA | 15 | 30.
Acetyl Fentanyl | 100 | no change.
Acetyl-alpha-methylfentanyl | 2 | 30.
Acetyldihydrocodeine | 2 | 30.
Acetylmethadol | 2 | no change.
ADB-PINACA (N-(1-amino-3,3-dimethyl-1-oxobutan-2-yl)-1-pentyl-1H-indazole-3-carboxamide) | 50 | no change.
AH-7921 | 30 | no change.
Allylprodine | 2 | no change.
Alphacetylmethadol | 2 | no change.
alpha-Ethyltryptamine | 25 | no change.
Alphameprodine | 2 | no change.
Alphamethadol | 2 | no change.
alpha-Methylfentanyl | 2 | 30.
alpha-Methylthiofentanyl | 2 | 30.
alpha-Methyltryptamine (AMT) | 25 | no change.
alpha-Pyrrolidinobutiophenone (α-PBP) | 25 | no change.
alpha-Pyrrolidinopentiophenone (α-PVP) | 25 | no change.
Aminorex | 25 | no change.
APINCA, AKB48 (N-(1-adamantyl)-1-pentyl-1H-indazole-3-carboxamide) | 25 | no change.
Benzylmorphine | 2 | 30.
Betacetylmethadol | 2 | no change.
beta-Hydroxy-3-methylfentanyl | 2 | 30.
beta-Hydroxyfentanyl | 2 | 30.
beta-Hydroxythiofentanyl | 30 | no change.
Betameprodine | 2 | no change.
Betamethadol | 4 | no change.
Betaprodine | 2 | no change.
Bufotenine | 3 | no change.
Butylone | 25 | no change.
Butyryl fentanyl | 30 | no change.
Cathinone | 24 | no change.
Codeine methylbromide | 5 | 30.
Codeine-N-oxide | 305 | 330
Desomorphine | 25 | no change.
Diethyltryptamine | 25 | no change.
Difenoxin | 8,750 | no change.
Dihydromorphine | 1,566,000 | no change.
Dimethyltryptamine | 35 | no change.
Dipipanone | 5 | no change.
Etorphine | Zero | 30.
Fenethylline | 5 | 30.
gamma-Hydroxybutyric acid | 56,200,000 | no change.
Heroin | 25 | 45.
Hydromorphinol | 2 | no change.
Hydroxypethidine | 2 | no change.
Ibogaine | 5 | 30.
JWH-018 and AM678 (1-Pentyl-3-(1-naphthoyl)indole) | 35 | no change.
JWH-019 (1-Hexyl-3-(1-naphthoyl)indole) | 45 | no change.
JWH-073 (1-Butyl-3-(1-naphthoyl)indole) | 45 | no change.
JWH-081 (1-Pentyl-3-[1-(4-methoxynaphthoyl)]indole) | 30 | no change.
JWH-122 (1-Pentyl-3-(4-methyl-1-naphthoyl)indole) | 30 | no change.
JWH-200 (1-[2-(4-Morpholinyl)ethyl]-3-(1-naphthoyl)indole) | 35 | no change.
JWH-203 (1-Pentyl-3-(2-chlorophenylacetyl)indole) | 30 | no change.
JWH-250 (1-Pentyl-3-(2-methoxyphenylacetyl)indole) | 30 | no change.
JWH-398 (1-Pentyl-3-(4-chloro-1-naphthoyl)indole) | 30 | no change.
Lysergic acid diethylamide (LSD) | 10 | 40.
MAB-CHMINACA; ADB-CHMINACA (N-(1-amino-3,3-dimethyl-1-oxobutan-2-yl)-1-(cyclohexylmethyl)-1H-indazole-3-carboxamide) | Zero | 30.
Marihuana | 472,000 | no change.
Mecloqualone | Zero | 30.
Mescaline | 25 | no change.
Methaqualone | 10 | 60.
Methcathinone | 25 | no change.
Methyldesorphine | 5 | no change.
Methyldihydromorphine | 2 | no change.
Morphine methylbromide | 5 | no change.
Morphine methylsulfonate | 5 | no change.
Morphine-N-oxide | 350 | no change.
N,N-Dimethylamphetamine | 25 | no change.
Naphyrone | 25 | no change.
N-Ethyl-1-phenylcyclohexylamine | 5 | no change.
N-Ethylamphetamine | 24 | no change.
N-Hydroxy-3,4-methylenedioxyamphetamine | 24 | no change.
Noracymethadol | 2 | no change.
Norlevorphanol | 52 | 55.
Normethadone | 2 | no change.
Normorphine | 40 | no change.
Para-fluorofentanyl | 5 | 25.
Parahexyl | 5 | no change.
PB-22; QUPIC | 20 | no change.
Pentedrone | 25 | no change.
Pentylone | 25 | no change.
Phenomorphan | 2 | no change.
Pholcodine | 5 | no change.
Psilocybin | 30 | no change.
Psilocyn | 50 | no change.
SR-18 and RCS-8 (1-Cyclohexylethyl-3-(2-methoxyphenylacetyl)indole) | 45 | no change.
SR-19 and RCS-4 (1-Pentyl-3-[(4-methoxy)-benzoyl]indole) | 30 | no change.
Tetrahydrocannabinols | 409,000 | no change.
Thiofentanyl | 2 | 25.
THJ-2201 ([1-(5-fluoropentyl)-1H-indazol-3-yl](naphthalen-1-yl)methanone) | 15 | 30.
Tilidine | 25 | no change.
Trimeperidine | 2 | no change.
UR-144 (1-pentyl-1H-indol-3-yl)(2,2,3,3-tetramethylcyclopropyl)methanone | 25 | no change.
Schedule II
1-Phenylcyclohexylamine | 4 | no change.
1-Piperidinocyclohexanecarbonitrile | 4 | no change.
4-Anilino-N-phenethyl-4-piperidine (ANPP) | 1,750,000 | no change.
Alfentanil | 4,200 | no change.
Alphaprodine | 2 | no change.
Amobarbital | 20,100 | no change.
Amphetamine (for conversion) | 12,000,000 | no change.
Amphetamine (for sale) | 42,400,000 | no change.
Carfentanil | 10 | 20.
Cocaine | 103,400 | no change.
Codeine (for conversion) | 40,000,000 | no change.
Codeine (for sale) | 45,000,000 | no change.
Dextropropoxyphene | 15 | 35.
Dihydrocodeine | 281,100 | 422,000.
Dihydroetorphine | 2 | no change.
Diphenoxylate (for conversion) | 15,000 | no change.
Diphenoxylate (for sale) | 820,000 | 1,110,000.
Ecgonine | 99,000 | no change.
Ethylmorphine | 2 | 30.
Etorphine hydrochloride | 32 | no change.
Fentanyl | 1,750,000 | no change.
Glutethimide | 2 | no change.
Hydrocodone (for conversion) | 122,000 | no change.
Hydrocodone (for sale) | 58,410,000 | no change.
Hydromorphone | 5,140,800 | no change.
Isomethadone | 4 | 30.
Levo-alphacetylmethadol (LAAM) | 3 | 5.
Levomethorphan | 10 | 30.
Levorphanol | 8,300 | 12,900.
Lisdexamfetamine | 19,000,000 | no change.
Meperidine | 3,706,000 | no change.
Meperidine Intermediate-A | 5 | no change.
Meperidine Intermediate-B | 9 | 30.
Meperidine Intermediate-C | 5 | no change.
Metazocine | 15 | no change.
Methadone (for sale) | 23,700,000 | no change.
Methadone Intermediate | 25,600,000 | no change.
Methamphetamine | 1,539,100 | no change.
[900,000 grams of levo-desoxyephedrine for use in a non-controlled, non-prescription product; 600,000 grams for methamphetamine mostly for conversion to a schedule III product; and 39,100 grams for methamphetamine (for sale)].
Methylphenidate | 73,000,000 | no change.
Morphine (for conversion) | 27,300,000 | no change.
Morphine (for sale) | 41,000,000 | no change.
Nabilone | 19,000 | no change.
Noroxymorphone (for conversion) | 17,700,000 | no change.
Noroxymorphone (for sale) | 400,000 | no change.
Opium (powder) | 90,000 | no change.
Opium (tincture) | 907,200 | 600,000.
Oripavine | 22,000,000 | 22,700,000.
Oxycodone (for conversion) | 2,610,000 | no change.
Oxycodone (for sale) | 108,510,000 | no change.
Oxymorphone (for conversion) | 22,300,000 | no change.
Oxymorphone (for sale) | 4,200,000 | no change.
Pentobarbital | 27,500,000 | no change.
Phenazocine | 5 | no change.
Phencyclidine | 20 | 35.
Phenmetrazine | 2 | 25.
Phenylacetone | 20 | 40.
Racemethorphan | 2 | 5.
Racemorphan | 2 | 5.
Remifentanil | 3,000 | no change.
Secobarbital | 172,002 | no change.
Sufentanil | 4,000 | no change.
Tapentadol | 21,000,000 | no change.
Thebaine | 100,000,000 | no change.
List I Chemicals
Ephedrine (for conversion) | 50,000 | no change.
Ephedrine (for sale) | 5,360,000 | no change.
Phenylpropanolamine (for conversion) | 15,000,000 | no change.
Phenylpropanolamine (for sale) | 8,500,000 | no change.
Pseudoephedrine (for conversion) | 40 | no change.
Pseudoephedrine (for sale) | 200,00,000 | no change.

The Acting Administrator further proposes that aggregate production quotas for all other schedule I and II controlled substances included in 21 CFR 1308.11 and 1308.12 remain at zero. In accordance with 21 CFR 1303.13 and 21 CFR 1315.13, upon consideration of the relevant factors, the Acting Administrator may adjust the 2017 aggregate production quotas and assessment of annual needs as needed.

Conclusion

After consideration of any comments or objections, or after a hearing, if one is held, the Acting Administrator will issue and publish in the Federal Register a final order establishing any adjustment of 2017 aggregate production quota for each basic class of controlled substances in schedules I and II and established assessment of annual needs for the list I chemicals ephedrine, pseudoephedrine, and phenylpropanolamine, 21 CFR 1303.13(c) and 1315.13(f).

Dated: July 27, 2017.
Chuck Rosenberg,
Acting Administrator.

[FR Doc. 2017-16440 Filed 8-3-17; 8:45 am]

BILLING CODE 4410-09-P